DEPARTMENT OF EDUCATION

34 CFR Parts 600 and 668

RIN 1840-AD15

[Docket ID ED-2014-OPE-0039]

Program Integrity: Gainful Employment; Correction

AGENCY: Department of Education.

ACTION: Final regulations; correction.

SUMMARY: On October 31, 2014, we published in the Federal Register final regulations for Program Integrity: Gainful Employment (Gainful Employment rule). This document corrects regulatory text, footnotes, and a chart in the Gainful Employment rule.

DATES: Effective July 1, 2015.

ADDRESSES: Accessible Format: Individuals with disabilities can obtain this document in an accessible format (e.g., braille, large print, audiotape, or compact disc) on request to the program contact person listed under For Further Information Contact.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

FOR FURTHER INFORMATION CONTACT: John Kolotos, U.S. Department of Education, 1990 K Street NW., Room 8018, Washington, DC 20006-8502. Telephone: (202) 502-7762 or by email at: gainfulemploymentregulations@ed.gov.

If you use a telecommunications device for the deaf (TDD) or a text telephone (TTY), call the Federal Relay Service, toll free, at 1-800-877-8339.

SUPPLEMENTARY INFORMATION: This document corrects: (1) Footnote text that was omitted from the Gainful Employment rule; (2) § 668.412 of the regulations to include the implementation date for the disclosure requirements; (3) the equations for calculating completion rates for full-time students in § 668.413(b)(1)(i) of the regulations; (4) § 668.413 to add mean earnings in addition to median earnings; and (5) the notification provisions in § 668.413(c)(2) of the regulations.

In the Gainful Employment rule:

• The text of certain footnotes was omitted;

• We discussed that institutions must begin complying with the requirements in § 668.412 of the regulations beginning January 1, 2017. However, that language was inadvertently omitted from the regulatory text;

• Dividing lines were omitted from the chart on page 64954 that would enhance the data presentation;

• We revised § 668.412(a)(11) of the proposed regulations to add mean earnings, in addition to median earnings, as a possible disclosure item to be included on the disclosure template, but we did not revise § 668.413 of the regulations to reflect this addition; and

• Section 668.413(c)(2) referred incorrectly to the cohort period with respect to the calculation of median loan debt.

Corrections

In FR Doc. No. 2014-25594, in the Federal Register of October 31, 2014 (79 FR 64890), make the following corrections:

1. On page 64905, in the left-hand column, add footnote 22 to read as follows:

²² IPEDS First-Look (July 2013), table 2. Average costs (in constant 2012-13 dollars) associated with attendance for full-time, first-time degree/certificate-seeking undergraduates at Title IV institutions operating on an academic year calendar system, and percentage change, by level of institution, type of cost, and other selected characteristics: United States, academic years 2010-11 and 2012-13.

2. On page 64906, in the right-hand column, revise footnotes 46 and 47 to read as follows:

⁴⁶ NCES, “Transferability of Postsecondary Credit Following Student Transfer or Coenrollment,” NCES 2014-163. Available at: http://nces.ed.gov/pubsearch/pubsinfo.asp?pubid=2014163.

⁴⁷ NCES, “Transferability of Postsecondary Credit Following Student Transfer or Coenrollment,” NCES 2014-163, table 3.

3. On page 64907, in the middle column, revise footnote 54 to read as follows:

⁵⁴ Id.

4. On page 64954, the table is revised to read as follows:

| Date received from SSA | Number ED sent to SSA | Number SSA verified | Number SSA did not verify | Number with earnings | Number with zero earnings
2011 GE informational rates—includes non-Title IV | 3/5/12 | 811,718 | 797,070 | 14,708 | 699,024 | 98,046 [12.3% of verified].
2012 GE informational rates for reg neg Title IV only | 7/18/13 | 255,168 | 252,328 | 2,845 | 232,006 | 20,317 [7.96% of verified].
2012 GE post reg neg—Title IV only | 8/14/13 | 923,399 | 917,912 | 8,487 | 798,952 | 115,960 [12.6% of verified].
For College Scorecard—Title IV only derived from ED data on borrowers in FY 2007 iCDR cohort for selected institutions of higher education | 9/13/13 | 900,419 901,719 902,380 921,749 | 892,796 894,260 892,840 909,613 | 7,623 7,459 9,540 12,136 | 809,204 819,542 787,223 772,574 | 83,592. 74,718. 105,617. 137,039.
Totals |  | 3,626,267 | 3,589,509 | 36,758 | 3,188,543 | 400,966 [11.1% of verified].
For College Scorecard—Title IV only derived from ED data on borrowers in FY 2008 iCDR cohort for selected institutions of higher education | 12/13/13 | 969,145 985,742 490,305 | 954,728 970,742 480,421 | 14,417 15,000 9,884 | 857,539 865,060 411,917 | 97,189. 105,682. 68,504.
Totals |  | 2,445,192 | 2,405,891 | 39,301 | 2,134,516 | 271,375 [11.3% of verified].
Grand Totals |  | 8,061,744 | 7,959,705 | 102,099 | 7,053,041 | 906,664 [11.4% of verified].

§ 668.412 [Corrected]

5. On page 65015, in the middle column, add paragraph (h) to § 668.412 to read as follows:

(h) Implementation date. Institutions must comply with the requirements of this section beginning January 1, 2017.

§ 668.413 [Corrected]

6. In the table of contents for subpart Q, on page 65007, in the second line in the middle column, we revise the phrase “median earnings” to read “mean and median earnings”.

7. Beginning in the middle column on page 65015 and ending on page 65018, in each place in which the phrase “median earnings” appears, including in the heading of § 668.413, revise the phrase to read “mean and median earnings”.

8. On page 65015, revise the two, three-column equations in § 668.413(b)(1)(i) to read as follows:

9. On page 65018, in the left-hand column, revise § 668.413(c)(2) by removing the phrase “, in each case during the cohort period”.

10. On page 65033, in the right-hand column, add footnotes 259 and 260 to read as follows:

²⁵⁹ NCES, “Transferability of Postsecondary Credit Following Student Transfer or Coenrollment,” NCES 2014-163. Available at: http://nces.ed.gov/pubsearch/pubsinfo.asp?pubid=2014163.

²⁶⁰ NCES, “Transferability of Postsecondary Credit Following Student Transfer or Coenrollment,” NCES 2014-163, table 3.

Program Authority: 20 U.S.C. 1001, 1002, 1088.

Dated: November 25, 2014.
Arne Duncan,
Secretary of Education.

[FR Doc. 2014-28284 Filed 12-3-14; 8:45 am]

BILLING CODE 4000-01-P